DEPARTMENT OF TRANSPORTATION

Federal Aviation Administration

14 CFR Part 39

[Docket No. FAA-2018-0398; Product Identifier 2017-NM-113-AD; Amendment 39-19277; AD 2018-10-02]

RIN 2120-AA64

Airworthiness Directives; The Boeing Company Airplanes

AGENCY: Federal Aviation Administration (FAA), DOT.

ACTION: Final rule; request for comments.

SUMMARY: We are adopting a new airworthiness directive (AD) for all The Boeing Company Model 787-8 airplanes. This AD requires inspecting the part number of the occupant restraint system on the standard attendant seats, and doing additional inspections and corrective actions if necessary. This AD was prompted by a report of loose attachment bolts on the occupant restraint system on a standard attendant seat due to the bolts being over-torqued during production. We are issuing this AD to address the unsafe condition on these products.

DATES: This AD is effective May 29, 2018.

The Director of the Federal Register approved the incorporation by reference of a certain publication listed in this AD as of May 29, 2018.

We must receive comments on this AD by June 25, 2018.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this final rule, contact Boeing Commercial Airplanes, Attention: Contractual & Data Services (C&DS), 2600 Westminster Blvd., MC 110-SK57, Seal Beach, CA 90740-5600; telephone: 562-797-1717; internet: https://www.myboeingfleet.com. You may view this service information at the FAA, Transport Standards Branch, 2200 South 216th St., Des Moines, WA. For information on the availability of this material at the FAA, call 206-231-3195. It is also available on the internet at http://www.regulations.gov by searching for and locating Docket No. FAA-2018-0398.

Examining the AD Docket

You may examine the AD docket on the internet at http://www.regulations.gov by searching for and locating Docket No. FAA-2018-0398; or in person at the Docket Management Facility between 9 a.m. and 5 p.m., Monday through Friday, except Federal holidays. The AD docket contains this final rule, the regulatory evaluation, any comments received, and other information. The street address for the Docket Office (phone: 800-647-5527) is in the ADDRESSES section. Comments will be available in the AD docket shortly after receipt.

FOR FURTHER INFORMATION CONTACT: Julie Moon, Aerospace Engineer, Cabin Safety and Environmental Systems Section, Seattle ACO Branch, FAA, 2200 South 216th St., Des Moines, WA 98198-6547; phone: 206-231-3571; email: julie.moon@faa.gov.

SUPPLEMENTARY INFORMATION:

Discussion

We have received a report of loose attachment bolts on the occupant restraint system on a standard attendant seat due to the bolts being over-torqued during production. One operator reported that a seat belt lower mount helicoil was detached from the seat pan lever while the attachment bolt was still threaded into the helicoil. Investigation revealed that the attachment bolt was probably over-torqued during production. Over-torqueing the attachment bolt could damage the bolt or the helicoil installation, and reduce the strength of the restraint system. Failure of the restraint system of the attendant seat during turbulence or a high-G load event could result in serious injury.

Related Service Information Under 1 CFR Part 51

We reviewed Boeing Service Bulletin B787-81205-SB250052-00, Issue 001, dated January 27, 2014. This service information describes procedures for inspecting the part number of the occupant restraint system on the standard attendant seats, and doing additional inspections and corrective actions if necessary. The additional inspections include a general visual inspection for any gap of the interface of the lever and spacer, a general visual inspection for any flattened or stripped threads, verification that the lap belt bolt helicoil in the lever does not protrude beyond the bottom surface of the counterbore, and a general visual inspection for a visible metal shaving or fragments of the lap belt bolt and lever helicoil. Corrective actions include re-torqueing and reworking the bolts and lever. This service information is reasonably available because the interested parties have access to it through their normal course of business or by the means identified in the ADDRESSES section.

FAA's Determination

We are issuing this AD because we evaluated all the relevant information and determined the unsafe condition described previously is likely to exist or develop in other products of the same type design.

AD Requirements

This AD requires accomplishing the actions specified in the service information described previously, except as discussed under “Difference Between this AD and the Service Information.”

Difference Between This AD and the Service Information

Operators should note that, although the service bulletin recommends accomplishing the inspection of the occupant restraint system within 50 months (after the release of the service bulletin), the FAA has determined that accomplishing the inspection within five years after the effective date of this AD is adequate to address the identified unsafe condition. In developing an appropriate compliance time for this AD, we considered not only the manufacturer's recommendation, but the degree of urgency associated with addressing the unsafe condition, the average utilization of the affected fleet, and the time necessary to perform the inspection (one hour). In light of all of these factors, the FAA finds a five-year compliance time for completing the inspection is warranted, in that it represents an appropriate interval of time for affected airplanes to continue to operate without compromising safety. This difference has been coordinated with Boeing.

FAA's Justification and Determination of the Effective Date

There are currently no domestic operators of this product. Therefore, we find that notice and opportunity for prior public comment are unnecessary and that good cause exists for making this amendment effective in less than 30 days.

Comments Invited

This AD is a final rule that involves requirements affecting flight safety and was not preceded by notice and an opportunity for public comment. However, we invite you to send any written data, views, or arguments about this final rule. Send your comments to an address listed under the ADDRESSES section. Include the docket number FAA-2018-0398 and Product Identifier 2017-NM-113-AD at the beginning of your comments. We specifically invite comments on the overall regulatory, economic, environmental, and energy aspects of this final rule. We will consider all comments received by the closing date and may amend this final rule because of those comments.

We will post all comments we receive, without change, to http://www.regulations.gov, including any personal information you provide. We will also post a report summarizing each substantive verbal contact we receive about this final rule.

Costs of Compliance

Currently, there are no affected U.S.-registered airplanes. If an affected airplane is imported and placed on the U.S. Register in the future, the following cost estimates to comply with this AD would apply:

Estimated Costs
Action | Labor cost | Parts cost | Cost per product
Inspection for part number (P/N) | 1 work-hour × $85 per hour = $85 | $0 | $85
Inspection of affected attendant seats | 2 work-hours × $85 per hour = $170 | 0 | 170

We estimate the following costs to do any necessary rework that would be required based on the results of the inspections. We have no way of determining the number of aircraft that might need this rework:

On-Condition Costs
Action | Labor cost | Parts cost | Cost per product
Rework | 2 work-hours × $85 per hour = $170 | $0 | $170

Authority for This Rulemaking

Title 49 of the United States Code specifies the FAA's authority to issue rules on aviation safety. Subtitle I, section 106, describes the authority of the FAA Administrator. “Subtitle VII: Aviation Programs” describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes to the Director of the System Oversight Division.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2018-10-02 The Boeing Company: Amendment 39-19277; Docket No. FAA-2018-0398; Product Identifier 2017-NM-113-AD.

(a) Effective Date

This AD is effective May 29, 2018.

(b) Affected ADs

None.

(c) Applicability

This AD applies to all The Boeing Company Model 787-8 airplanes, certificated in any category.

(d) Subject

Air Transport Association (ATA) of America Code 25, Equipment/furnishings.

(e) Unsafe Condition

This AD was prompted by a report of loose attachment bolts on the occupant restraint system on a standard attendant seat due to the bolts being over-torqued. We are issuing this AD to address potential failure of the restraint system of the attendant seat during turbulence or a high-G load event, which could result in serious injury.

(f) Compliance

Comply with this AD within the compliance times specified, unless already done.

(g) Inspection and Applicable Corrective Actions

Within 5 years after the effective date of this AD: Inspect the occupant restraint system on the standard attendant seats for any restraint system having a part number identified in the Accomplishment Instructions of Boeing Service Bulletin B787-81205-SB250052-00, Issue 001, dated January 27, 2014.

(1) For any affected occupant restraint system: Within 5 years after the effective date of this AD, inspect the affected attendant seat for discrepancies, including a general visual inspection for any gap of the interface of the lever and spacer, a general visual inspection for any flattened or stripped threads, verification that the lap belt bolt helicoil in the lever does not protrude beyond the bottom surface of the counterbore, and a general visual inspection for visible metal shavings or fragments of the lap belt bolt and lever helicoil; and do all applicable torqueing of the lap belt bolt, in accordance with the Accomplishment Instructions of Boeing Service Bulletin B787-81205-SB250052-00, Issue 001, dated January 27, 2014.

(2) For any discrepant attendant seat, before further flight rework the attachment bolt, the seat pan lever and bolts, and the dampener bolt, in accordance with the Accomplishment Instructions of Boeing Service Bulletin B787-81205-SB250052-00, Issue 001, dated January 27, 2014.

Note 1 to paragraph (g) of this AD: Guidance on the inspections and rework can be found in Goodrich Service Bulletin 2787-25-009, dated June 28, 2013.

(h) Inspection Definition

For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

(i) Parts Installation Prohibition

As of the effective date of this AD, no person may install an occupant restraint system having a part number identified in the Accomplishment Instructions of Boeing Service Bulletin B787-81205-SB250052-00, Issue 001, dated January 27, 2014, on any airplane.

(j) Alternative Methods of Compliance (AMOCs)

(1) The Manager, Seattle ACO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (k)(1) of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair, modification, or alteration required by this AD if it is approved by the Boeing Commercial Airplanes Organization Designation Authorization (ODA) that has been authorized by the Manager, Seattle ACO Branch, to make those findings. To be approved, the repair method, modification deviation, or alteration deviation must meet the certification basis of the airplane, and the approval must specifically refer to this AD.

(k) Related Information

(1) For more information about this AD, contact Julie Moon, Aerospace Engineer, Cabin Safety and Environmental Systems Section, Seattle ACO Branch, FAA, 2200 South 216th St., Des Moines, WA 98198-6547; phone: 206-231-3571; email: julie.moon@faa.gov.

(2) For Goodrich service information identified in this AD, contact Goodrich Corporation, Aircraft Interior Products, ATTN: Technical Publications, 3414 South Fifth Street, Phoenix, AZ 85040-1169; telephone 602-243-2200; internet http://www.goodrich.com/TechPubs.

(l) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Boeing Service Bulletin B787-81205-SB250052-00, Issue 001, dated January 27, 2014.

(ii) Reserved.

(3) For service information identified in this AD, contact Boeing Commercial Airplanes, Attention: Contractual & Data Services (C&DS), 2600 Westminster Blvd., MC 110-SK57, Seal Beach, CA 90740-5600; telephone: 562-797-1717; internet: https://www.myboeingfleet.com.

(4) You may view this service information at the FAA, Transport Standards Branch, 2200 South 216th St., Des Moines, WA. For information on the availability of this material at the FAA, call 206-231-3195.

(5) You may view this service information that is incorporated by reference at the National Archives and Records Administration (NARA). For information on the availability of this material at NARA, call 202-741-6030, or go to: http://www.archives.gov/federal-register/cfr/ibr-locations.html.

Issued in Des Moines, Washington, on May 1, 2018.
Dionne Palermo,
Acting Director, System Oversight Division, Aircraft Certification Service.

[FR Doc. 2018-09747 Filed 5-10-18; 8:45 am]

BILLING CODE 4910-13-P